NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before August 23, 2007 (Note that the new time period for requesting copies has changed from 45 to 30 days after publication). Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (Note that the new time period for requesting copies has changed from 45 to 30 days after publication):

1. Department of Defense, Defense Commissary Agency (N1-506-07-6, 3 items, 3 temporary items). Records relating to inquiries, investigations, and other matters pertaining to the Inspector General, including case files, complaints, correspondence, memos, and guidance procedures and related information. This schedule authorizes the agency to apply the proposed disposition instructions to any recordkeeping medium.

2. Department of Defense, Joint Staff (N1-218-06-2, 4 items, 4 temporary items). Records documenting anti-terrorism training. Included are unclassified electronic data, reports, and records documenting information on trainees, such as name, rank, service, title, and course completion date.

3. Department of Homeland Security, U.S. Coast Guard (N1-26-07-5, 4 items, 4 temporary items). Records associated with health and fitness assessments of U.S. Coast Guard members. This schedule authorizes the agency to apply the proposed disposition instructions to any recordkeeping medium.

4. Department of Homeland Security, U.S. Coast Guard (N1-26-07-6, 2 items, 2 temporary items). Checklists used to ensure rescue swimmers may deploy safely from ships. This schedule authorizes the agency to apply the proposed disposition instructions to any recordkeeping medium.

5. Department of Homeland Security, U.S. Coast Guard (N1-26-07-7, 1 item, 1 temporary item). Records documenting sterilization tests conducted on medical instruments. This schedule authorizes the agency to apply the proposed disposition instructions to any recordkeeping medium.

6. Department of Justice, Bureau of Prisons (N1-129-07-12, 1 item, 1 temporary item). Records of the Regional Inmate Skills Development Coordinator including correspondence with institutions relating to developing the skills of inmates. This schedule authorizes the agency to apply the proposed disposition instructions to any recordkeeping medium.

7. Department of Transportation, Federal Highway Administration (N1-406-07-1, 11 items, 4 temporary items). Records relating to the National Scenic Byways Program, including photographic prints, negatives, and contact sheets that do not meet requirements for permanent preservation; Copies of publications maintained for reference use only; grant applications; and nominations for National Scenic Byways and All-American Roads. Proposed for permanent retention are photographic prints, negatives, contact sheets, slides and transparencies, digital images generated through scanning, original digital images, finding aids, special photo project files, posters and promotional products, and publications meeting requirements for permanent preservation.

8. Department of Transportation, Federal Railroad Administration (N1-399-07-8, 3 items, 2 temporary items). Records accumulated within the Office of Administrator and Deputy Administrator including working files, requests to form work groups, minutes of work group meetings, drafts of reports or parts of reports, distribution lists, and comments on drafts. Proposed for permanent retention are recordkeeping copies of final reports. This schedule authorizes the agency to apply the proposed disposition instructions to any recordkeeping medium.

9. Department of Transportation, Federal Railroad Administration (N1-399-07-10, 4 items, 3 temporary items). Office of Public Affairs records relating to publications and promotional items. Included are routine and promotional brochures and pamphlets, in-house distribution copies, working papers, and background materials. Proposed for permanent retention are agency mission-related publications, reports, papers, manuals, handbooks, and pamphlets. This schedule authorizes the agency to apply the proposed disposition instructions to any recordkeeping medium.

10. Department of Transportation, Federal Railroad Administration (N1-399-07-15, 3 items, 2 temporary items). Records relating to agency-wide directives including a reference set or office copies of directives and unpublished directives and guidance. Proposed for permanent retention are record copies of directives. This schedule authorizes the agency to apply the proposed disposition instruction to any recordkeeping medium.

11. Department of Transportation, Federal Railroad Administration (N1-399-07-16, 3 items, 3 temporary items). Office of Railroad Development contract management records relating to the award, administration, receipt, inspection, and payment of contracts. These records contain requests for proposals, contracts and contract modifications, monthly reports, correspondence, contract deliverables, and evaluation reports. This schedule authorizes the agency to apply the proposed disposition instructions to any recordkeeping medium.

12. Department of Transportation, Federal Railroad Administration (N1-399-07-18, 2 items, 2 temporary items). Office of Railroad Development environmental impact statement files including correspondence, studies, drafts, and review documents. This schedule authorizes the agency to apply the proposed disposition instructions to any recordkeeping medium.

13. Department of the Treasury, Internal Revenue Service (N1-58-07-6, 1 item, 1 temporary item). Custodial Inspection Forms used to certify that a contractor is performing tasks as stipulated by a contract.

14. Department of the Treasury, Internal Revenue Service (N1-58-07-7, 4 items, 4 temporary items). Inputs, master files, outputs, and system documentation for an electronic information system which tracks outreach efforts to raise awareness of the Taxpayer Advocate Service.

15. Department of the Treasury, Internal Revenue Service (N1-58-07-8, 4 items, 4 temporary items). Inputs, system data, outputs, and system documentation for the Appeals Customer Service System, which tracks the agency's work on taxpayer appeals.

16. Department of the Treasury, Internal Revenue Service (N1-58-07-9, 8 items, 8 temporary items). Inputs, system data, outputs, and system documentation for an electronic information system which monitors potential income tax withholding problems.

17. Department of the Treasury, Internal Revenue Service (N1-58-07-10, 4 items, 4 temporary items). Inputs, master files, outputs, and system documentation for the International Passport Office Program, which monitors passports for agency employees.

18. Broadcasting Board of Governors, International Broadcasting Bureau (N1-517-07-1, 1 item, 1 temporary item). Voice of America Lithuanian Language Service audio recordings (1972-1988).

19. National Commission on Libraries and Information Science, Office of the Library Statistics Cooperative Program (N1-220-06-3, 7 items, 2 temporary items). Public library survey data received from the principal Federal agency responsible for education statistics. Proposed for permanent retention are unique public library statistical data, system documentation and public library analytical reports.

Dated: July 16, 2007.
Michael J. Kurtz,
Assistant Archivist for Records Services—Washington, DC.

[FR Doc. E7-14264 Filed 7-23-07; 8:45 am]

BILLING CODE 7515-01-P